DEPARTMENT OF HOMELAND SECURITY

Federal Emergency Management Agency

[Docket ID FEMA-2010-0049]

Recovery Policy, RP9525.4, Emergency Medical Care and Medical Evacuations

AGENCY: Federal Emergency Management Agency, DHS.

ACTION: Notice of availability; request for comments.

SUMMARY: The Federal Emergency Management Agency (FEMA) is accepting comments on RP9525.4, Emergency Medical Care and Medical Evacuations. This is an existing policy that is scheduled for review to ensure that the Recovery Directorate policies are consistent with current laws and regulations. This policy identifies the extraordinary emergency medical care and medical evacuation expenses that are eligible for reimbursement under the Category B, Emergency Protective Measures provision of the Public Assistance Program following an emergency or major disaster declaration.

DATES: Comments must be received by September 13, 2010.

ADDRESSES: Comments must be identified by docket ID FEMA-2010-0049 and may be submitted by one of the following methods:

Federal eRulemaking Portal: http://www.regulations.gov. Follow the instructions for submitting comments. Please note that this proposed policy is not a rulemaking and the Federal Rulemaking Portal is being utilized only as a mechanism for receiving comments.

Mail: Rules Docket Manager, Office of Chief Counsel, Federal Emergency Management Agency, Room 835, 500 C Street, SW., Washington, DC 20472-3100.

FOR FURTHER INFORMATION CONTACT: Deborah Atkinson, Federal Emergency Management Agency, 500 C Street, SW., Washington, DC 20472, Deborah.Atkinson@dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section above. Please submit your comments and any supporting material by only one means to avoid the receipt and review of duplicate submissions.

Docket: The proposed policy is available in docket ID FEMA-2010-0049. For access to the docket to read background documents or comments received, go to the Federal eRulemaking Portal at http://www.regulations.gov and search for the docket ID. Submitted comments may also be inspected at FEMA, Office of Chief Counsel, Room 835, 500 C Street, SW., Washington, DC 20472.

II. Background

Sections 403 and 502 of the Stafford Act authorize Federal agencies to provide assistance, including emergency medical care, essential to meeting immediate threats to life and property resulting from a major disaster or emergency, respectively. When the emergency medical delivery system within the designated disaster area is destroyed or severely compromised by a disaster event, assistance for emergency medical care and medical evacuations of disaster survivors from eligible public and private nonprofit hospitals and custodial care facilities is available to eligible Public Assistance applicants through Public Assistance grants, Direct Federal Assistance (DFA), or a combination of both. When the State and local governments lack the capability to perform or contract for eligible emergency medical care or medical evacuation work, they may request Direct Federal Assistance from FEMA. Usually, FEMA will task the appropriate Federal agencies via mission assignments to perform the requested emergency work. FEMA may task the Department of Health and Human Services to provide emergency medical assistance when requested by the State.

The draft updated policy proposes that labor costs for personnel activated and deployed to support the performance of eligible emergency medical care and medical evacuations of patients be eligible for reimbursement.

FEMA seeks comment on the proposed policy, which is available online at http://www.regulations.gov in docket ID FEMA-2010-0049. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov.

Authority: 42 U.S.C. 5121-5207; 44 CFR part 206.

David J. Kaufman,
Director, Office of Policy and Program Analysis, Federal Emergency Management Agency.

[FR Doc. 2010-20069 Filed 8-12-10; 8:45 am]

BILLING CODE 9111-23-P